DEPARTMENT OF THE INTERIOR

Bureau of Indian Affairs

Indian Gaming

AGENCY: Bureau of Indian Affairs, Interior.

ACTION: Notice of Third Extension to Tribal-State Compact.

SUMMARY: This notice publishes the Third Extension of the Tribal-State Compact between the Pyramid Lake Paiute Indian Tribe and the State of Nevada. The Compact is extended until January 5, 2006.

EFFECTIVE DATE: January 14, 2005.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State Compacts for the purpose of engaging in Class III gaming activities on Indian lands.

On January 6, 1998, the Assistant Secretary-Indian Affairs, Department of the Interior, through his delegated authority, approved the Compact between the Pyramid Lake Paiute Tribe and the State of Nevada, which was executed on August 4, 1997. The Compact is extended until January 5, 2006.

Dated: December 22, 2004.
Michael D. Olsen,
Principal Deputy Assistant Secretary—Indian Affairs.

[FR Doc. 05-813 Filed 1-13-05; 8:45 am]

BILLING CODE 4310-4N-P